DEPARTMENT OF TRANSPORTATION

Federal Aviation Administration

14 CFR Part 39

[Docket No. 2003-NE-23-AD; Amendment 39-13210; AD 2003-13-10]

RIN 2120-AA64

Airworthiness Directives; Rolls-Royce Corporation (formerly Allison Engine Company, Allison Gas Turbine Division, and Detroit Diesel Allison) Models 250-C30R/3, -C30R/3M, -C47B, and -C47M Turboshaft Engines; Correction

AGENCY: Federal Aviation Administration, DOT.

ACTION: Final rule; request for comments, correction.

SUMMARY: This document makes a correction to Airworthiness Directive (AD) 2003-13-10, applicable to Rolls-Royce Corporation (formerly Allison Engine Company, Allison Gas Turbine Division, and Detroit Diesel Allison) Models 250-C30R/3, -C30R/3M, -C47B, and -C47M turboshaft engines. AD 2003-13-10 was published in the Federal Register on June 30, 2003 (68 FR 38590). In the compliance section, paragraph (f) incorrectly references a compliance date of July 15, 2003 and should reference a compliance date of July 31, 2003. This document corrects that date. In all other respects, the original document remains the same.

EFFECTIVE DATE: July 15, 2003.

FOR FURTHER INFORMATION CONTACT: Khailaa Hosny, Aerospace Engineer, Chicago Aircraft Certification Office, FAA, 2300 East Devon Avenue, Des Plaines, IL 60018-4696; telephone (847) 294-7134; fax (847) 294-7834.

SUPPLEMENTARY INFORMATION: A final rule; request for comments airworthiness directive FR DOC. 03-15993, applicable to Rolls-Royce Corporation (formerly Allison Engine Company, Allison Gas Turbine Division, and Detroit Diesel Allison) Models 250-C30R/3, -C30R/3M, -C47B, and -C47M turboshaft engines, was published in the Federal Register on June 30, 2003 (68 FR 38590). The following correction is needed:

On page 38592, in the first column, under Initial Inspection heading, paragraph (f), fifth line, which reads “no later than July 15, 2003, in accordance * * * ” is corrected to read “no later than July 31, 2003, in accordance * * * ”.

Issued in Burlington, MA, on July 10, 2003.
Francis A. Favara,
Acting Manager, Engine and Propeller Directorate, Aircraft Certification Service.

[FR Doc. 03-17950 Filed 7-15-03; 8:45 am]

BILLING CODE 4910-13-P